DEPARTMENT OF TRANSPORTATION

Federal Aviation Administration

RTCA Government/Industry Air Traffic Management Advisory Committee (Successor of RTCA Government/Industry Free Flight Steering Committee)

AGENCY: Federal Aviation Administration (FAA), DOT.

ACTION: Notice of RTCA/Industry Air Traffic Management Advisory Committee.

SUMMARY: The FAA is issuing this notice to advise the public of a meeting of the RTCA Government/Industry Air Traffic Management Advisory Committee.

DATES: The meeting will be held June 2, 2004, 1-3 p.m.

ADDRESSES: The meeting will be held at Aerospace Building, 901 D Street, SW., Andrews/BWI Conference Rooms (Suite 850) Washington, DC, 20024.

FOR FURTHER INFORMATION CONTACT: (1) RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee (Pub. L. 92-463, 5 U.S.C., Appendix 2), notice is hereby given for the Air Traffic Management Advisory Committee meeting.

Note: Non-Government attendees to the meeting must go through security and be escorted to and from the conference room.

Issued in Washington, DC, on May 17, 2004.
Natalie Olgetree,
FAA General Engineer, RTCA Advisory Committee.

[FR Doc. 04-11793 Filed 5-24-04; 8:45 am]

BILLING CODE 4910-13-M